INTERNATIONAL TRADE COMMISSION

[Inv. No. 337-TA-585]

In the Matter of Certain Engines, Components Thereof, and Products Containing the Same; Notice of Commission Determination Not To Review an Initial Determination Terminating the Investigation on the Basis of a Consent Order Stipulation and Consent Order

AGENCY: U.S. International Trade Commission.

ACTION: Notice.

SUMMARY: Notice is hereby given that the U.S. International Trade Commission has determined not to review an initial determination (“ID”) of the presiding administrative law judge (“ALJ”) (Order No. 17) in the above-captioned investigation terminating this investigation, as to both respondents, on the basis of a consent order stipulation and a consent order.

FOR FURTHER INFORMATION: Christal A. Sheppard, Esq., Office of the General Counsel, U.S. International Trade Commission, 500 E Street, SW., Washington, DC 20436, telephone 202-708-2301. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On October 19, 2006, the Commission instituted an investigation under section 337 of the Tariff Act of 1930, 19 U.S.C. 1337, based on a complaint filed by American Honda Motor Company, Inc. of Torrance, California (“Honda”), alleging a violation of section 337 in the importation, sale for importation, and sale within the United States after importation of certain engines, components thereof, and products containing the same by reason of infringement of certain claims of U.S. Patent Nos. 5,706,769 and 6,250,273. 71 FR 61799 (Oct. 19, 2006). The complainant named Wuxi Kipor Power Co., Ltd. of Jiangsu, China (“Wuxi”) as a respondent.

On January 24, 2007, the ALJ granted a motion by complainant Honda for leave to amend the complaint and the notice of investigation to add Wuxi Kama Power Co. Ltd. (“Kama”) as a respondent to the investigation. The Commission did not review that initial determination.

On May 15, 2007, Honda, Wuxi, and Kama filed a joint motion pursuant to Commission rule 210.21(c) seeking termination of this investigation based upon a consent order stipulation and a proposed consent order (copies attached). The proposed consent order would terminate the investigation in its entirety. The Commission investigative attorney supported the motion in a response dated May, 15, 2007.

On May 18, 2007, the ALJ issued the subject ID (Order No. 17) terminating this investigation pursuant to Commission rule 210.21(c)(1)(ii). He indicates in the ID that the consent order stipulations satisfy Commission rule 210.21(c)(3). The ALJ also considered, pursuant to Commission rule 210.21(c)(2)(ii) and 210.50(b)(2), the effect of the consent order “upon the public health and welfare, competitive conditions in the U.S. economy, the production of like or directly competitive articles in the United States, and U.S. consumers.” The ALJ found no adverse effect on the public interest. No petitions for review of the ID were filed and the Commission has determined not to review the ID.

The authority for the Commission's determination is contained in section 337 of the Tariff Act of 1930, as amended (19 U.S.C. 1337), and in §§ 210.21 and 210.42 of the Commission's Rules of Practice and Procedure (19 CFR 210.21 and 210.42).

By order of the Commission.
Issued: June 14, 2007.
Marilyn R. Abbott,
Secretary to the Commission.

[FR Doc. E7-11889 Filed 6-19-07; 8:45 am]

BILLING CODE 7020-02-P